DEPARTMENT OF THE INTERIOR

Bureau of Land Management

[NV-010-1430-01; N-60593]

Termination of Segregative Effect, Exchange N-60593; Nevada

AGENCY: Bureau of Land Management, Interior.

ACTION: Notice.

SUMMARY: This action terminates the segregative effect of Exchange Proposal N-60593 initiated by Barrick Goldstrike Mines, Inc. and Ellison Ranching Company. The land will be opened to the operation of the public land laws, including location and entry under the mining laws.

EFFECTIVE DATE: December 10, 2001.

FOR FURTHER INFORMATION CONTACT: Helen Hankins, Elko Field Office, 3900 E. Idaho St., Elko, Nevada 89801, 775-753-0200.

SUPPLEMENTARY INFORMATION: On April 11, 1997, the land described below was segregated as to a proposed exchange with Barrick Goldstrike Mines, Inc. and Ellison Ranching Company. The exchange is no longer being pursued.

The segregative effect is hereby terminated for the following described land:

Mount Diablo Meridian, Nevada

T. 40 N., R. 47 E.,

Sec. 1: lots 25, 27, 28.

T. 40 N., R. 48 E.,

Sec. 6: lots 27, 28.

T. 41 N., R. 48 E. (resurveyed township),

Sec. 1: lot 1, SE¼NE¼, E½SW¼, SE¼;

Sec. 2: S½NW¼, W½SW¼;

Sec. 3: lots 9-15 inclusive;

Sec. 4: lots 9-12 inclusive, S½;

Sec. 5: lots 7, 8, S½NW¼, S½;

Sec. 6: lots 13-18 inclusive, lots 21-23 inclusive;

Sec. 7: E½, E½W½;

Sec. 8: lots 1-16 inclusive; (All)

Sec. 9: lots 1-15 inclusive;

Sec. 10: lots 1-8 inclusive; (All)

Sec. 11: lots 1, 2;

Sec. 12: lots 1-10 inclusive, NE¼;

Sec. 13: lots 1-28 inclusive; (All)

Sec. 14: SE¼NE¼, W½SW¼, E½SE¼;

Sec. 15: lots 1-8 inclusive; (All)

Sec. 16: lots 1-7 inclusive, NE¼;

Sec. 17: lots 1-8 inclusive, S½; (All)

Sec. 18: E½, E½W½;

Sec. 19: E½, E½W½;

Sec. 20: All;

Sec. 21: E½NE¼, NE¼NW¼, W½SW¼, SE¼SW¼;

Sec. 22: lots 1, 2, S½NE¼, NW¼, N½SW¼, SE¼SW¼, SE¼;

Sec. 23: lots 1, 2, SW¼NE¼, S½NW¼, SW¼, W½SE¼;

Sec. 24: lots 1-8 inclusive;

Sec. 25: lots 1-10 inclusive, W½SW¼, SE¼SW¼;

Sec. 26: NW¼NE¼, N½NW¼, SE¼SE¼;

Sec. 27: NE¼NE¼, S½NW¼, SW¼, W½SE¼;

Sec. 28: E½NE¼, W½, SW¼SE¼;

Sec. 29: All;

Sec. 30: E½, NE¼NW¼;

Sec. 31: N½NE¼, SE¼NE¼;

Sec. 32: N½N½, SE¼NE¼, SW¼NW¼, N½SW¼, SE¼SW¼, SW¼SE¼;

Sec. 33: lots 1-3 inclusive, W½NE¼, NW¼, SE¼;

Sec. 34: NE¼, N½NW¼, W½SW¼, NW¼SE¼;

Sec. 35: N½;

Sec. 36: N½NW¼.

T. 41 N., R. 49 E.,

Sec. 4: lots 2, 4, SW¼NE¼, W½SE¼;

Sec. 5: lots 1-4 inclusive, S½N½, S½; (All)

Sec. 6: lots 1-7 inclusive, S½NE¼, SE¼NW¼, E½SW¼, NW¼SE¼, S½SE¼;

Sec. 7: Lots 2-4 inclusive, E½, E½NW¼, NE¼SW¼;

Sec. 9: W½NE¼;

Sec. 16: SW¼SE¼;

Sec. 17: W½W½;

Sec. 18: lots 1-4 inclusive, E½E½, SW¼NE¼, E½W½, SW¼SE¼;

Sec. 19: lot 1, N½NE¼, SE¼NE¼, NE¼NW¼, E½SW¼, SE¼;

Sec. 20: NW¼NW¼, W½SW¼, SE¼SW¼;

Sec. 21: NW¼NE¼, NW¼SW¼, SW¼SE¼;

Sec. 28: W½NW¼, SE¼SW¼;

Sec. 29: N½NE¼, NW¼, N½SW¼, NW¼SE¼;

Sec. 30: lots 1-3 inclusive, NE¼, E½NW¼, NE¼SW¼, N½SE¼, SW¼SE¼;

Sec. 31: NE¼NE¼;

Sec. 32: NE¼, N½NW¼;

Sec. 33: W½NE¼, NW¼, N½SW¼, NW¼SE¼.

T. 42 N., R. 49 E.,

Sec. 21: E½SW¼, SE¼;

Sec. 22: SW¼NW¼;

Sec. 24: S½;

Sec. 25: All;

Sec. 26: E½, E½SW¼;

Sec. 27: N½SE¼, SW¼SE¼;

Sec. 28: N½, SW¼, W½SE¼;

Sec. 29: SE¼NE¼, E½SW¼, SE¼;

Sec. 31: lots 4, SE¼NE¼, E½SW¼, SE¼;

Sec. 32: All;

Sec. 33: NW¼NE¼, NW¼, N½SW¼, SW¼SW¼;

T. 40 N., R. 50 E.,

Sec. 3: lots 25-29 inclusive;

Sec. 4: lots 21, 22;

Sec. 5: lots 21-28 inclusive;

T. 41 N., R. 50 E.,

Sec. 1: NW¼SW¼, S½S½, NE¼SE¼;

Sec. 2: SW¼, W½SE¼, SE¼SE¼;

Sec. 10: SE¼SE¼;

Sec. 11: N½, SE¼SW¼, E½SE¼;

Sec. 12: All;

Sec. 13: N½, NE¼SW¼, S½S½, NE¼SE¼;

Sec. 14: N½, SW¼, N½SE¼, SW¼SE¼;

Sec. 15: S½NE¼, SE¼;

Sec. 22: NE¼NE¼, SE¼SE¼;

Sec. 23: E½NE¼, NW¼, NW¼SW¼, SE¼SW¼, SE¼;

Sec. 24: All;

Sec. 25: NE¼, N½NW¼, SE¼NW¼, SE¼SW¼, SW¼SE¼;

Sec. 26: All;

Sec. 27: NW¼NE¼, SE¼NE¼, E½SE¼;

Sec. 34: S½SE¼;

Sec. 35: N½, SW¼;

Sec. 36: W½NE¼, NW¼, E½SE¼.

T. 42 N., R. 50 E.,

Sec. 19: lot 4, E½, SE¼NW¼, E½SW¼;

Sec. 29: SW¼NW¼, W½SW¼, SE¼SW¼;

Sec. 30: lots 1-4 inclusive, E½, E½W½; (All)

Sec. 31: lot 1, N½NE¼, NE¼NW¼;

Sec. 32: N½NW¼;

T. 40 N., R. 51 E.,

Sec. 1: lots 2-4 inclusive, S½NW¼, NW¼SW¼;

Sec. 2: lots 1, 2, 4, S½NE¼, SE¼NW¼, S½;

Sec. 3: lots 1-4 inclusive, S½N½, SW¼, NW¼SE¼, SE¼SE¼;

Sec. 4: lots 1-4 inclusive, SE¼NE¼, S½NW¼, W½SW¼, SE¼;

Sec. 5: lots 1-4 inclusive, S½NE¼, SE¼NW¼, E½SW¼, SE¼;

Sec. 6: lots 2-4 inclusive, lot 7, SE¼NW¼, E½SW¼;

Sec. 7: lots 1-3 inclusive, E½NW¼;

Sec. 8: E½E½, NW¼NE¼, NW¼SE¼;

Sec. 9: W½E½, W½NW¼, NE¼SW¼, S½SW¼, SE¼SE¼;

Sec. 10: NE¼NE¼, S½NE¼, SE¼SW¼, N½SE¼, SW¼SE¼;

Sec. 11: N½NE¼, SW¼NE¼, NW¼, S½;

Sec. 12: W½NW¼;

Sec. 14: N½NE¼, SW¼NE¼, NW¼, N½SW¼, SW¼SW¼;

Sec. 15: N½, SW¼SW¼, SE¼;

Sec. 16: N½SW¼, W½SE¼;

Sec. 17: NE¼NE¼;

Sec. 20: NE¼NE¼, E½SW¼;

Sec. 21: N½NE¼, SE¼NE¼, NW¼, W½SW¼, SE¼;

Sec. 22: All;

T. 41 N., R. 51 E.,

Sec. 4: SE¼SW¼;

Sec. 5: S½;

Sec. 6: lots 5-7 inclusive, SE¼NW¼, NE¼SW¼, SE¼;

Sec. 7: lots 1-4 inclusive, E½, E½W½; (All)

Sec. 8: All;

Sec. 9: NE¼, E½W½, N½SE¼, SW¼SE¼;

Sec. 10: NW¼NW¼;

Sec. 14: E½SW¼, SW¼SE¼;

Sec. 15: SW¼SW¼;

Sec. 16: NW¼NE¼, NE¼NW¼, S½N½, S½;

Sec. 17: N½NE¼, SW¼NE¼, NW¼, N½SW¼, SE¼SW¼, NE¼SE¼, S½SE¼;

Sec. 18: lots 1, 2, 4, N½NE¼, E½NW¼, SE¼SW¼, SE¼;

Sec. 19: lots 1, 2, 4, NW¼NE¼, SE¼NE¼, E½NW¼, E½SE¼;

Sec. 20: N½, NE¼SW¼, S½SW¼, SE¼;

Sec. 21: N½NE¼, SE¼NE¼, N½NW¼, SW¼NW¼, SW¼, E½SE¼;

Sec. 22: S½NE¼, W½NW¼, E½SW¼, SE¼;

Sec. 23: W½, SE¼;

Sec. 24: S½NW¼, SW¼, S½SE¼;

Sec. 25: N½NE¼, NW¼, NE¼SW¼, S½S½, NE¼SE¼;

Sec. 26: N½, NE¼SW¼, NW¼SE¼, SE¼SE¼;

Sec. 27: E½, E½NW¼, N½SW¼, SW¼SW¼;

Sec. 28: W½NE¼, SE¼NE¼, W½, SW¼SE¼;

Sec. 29: E½, NW¼, N½SW¼, SE¼SW¼;

Sec. 30: lot 4, NE¼, NE¼SE¼;

Sec. 31: lots 1-4 inclusive, SE¼SE¼;

Sec. 32: E½, E½NW¼, SW¼;

Sec. 33: E½NE¼, SW¼NE¼, W½NW¼, SE¼NW¼, SW¼, W½SE¼;

Sec. 34: NE¼, NW¼NW¼, S½;

Sec. 35: N½NE¼, SW¼NE¼, NW¼, N½SW, E½SE¼;

Sec. 36: SW¼NE¼, NW¼NW¼, SE¼NW¼, NW¼SW¼, SE¼SW¼, N½SE¼, SW¼SE¼.

T. 41 N., R. 52 E.,

Sec. 3: lots 1-3 inclusive, S½NE¼, SE¼NW¼, N½SW¼, SW¼SW¼, SE¼;

Sec. 4: lots 1-4 inclusive, S½NE¼, NE¼SW¼, S½SW¼, SE¼;

Sec. 5: lot 1;

Sec. 8: SE¼NE¼, E½SE¼;

Sec. 9: N½NE¼, W½;

Sec. 16: NW¼, N½SW¼;

Sec. 17: NE¼, N½SE¼, SW¼SE¼.

T. 42 N., R. 52 E.,

Sec. 27: SW¼SW¼, SW¼SE¼;

Sec. 34: E½, E½SW¼;

The area described contains 53,985.51 acres in Elko County.

1. At 9 a.m. on December 10, 2001, the land described above will be opened Sec the operation of the public land laws, subject Sec valid existing rights, the provision of existing withdrawals, other segregations of record, and the requirements of applicable law. All valid applications received at or prior Sec 9:00 a.m. December 10, 2001, shall be considered as simultaneously filed at that time. Those received thereafter shall be considered in the order of filing.

2. At 9 a.m. on December 10, 2001, the land described above will be opened Sec location and entry under the United States mining laws, subject Sec valid existing rights, the provisions of existing withdrawals, other segregations of record, and the requirements of applicable law. Appropriation of any of the land described in this order under the general mining laws prior Sec the date and time of resSecration is unauthorized. Any such attempted appropriation, including attempted adverse possession under 30 U.S.C. 38 (1994), shall vest no rights against the United States. Acts required Sec establish a location and Sec initiate a right of possession are governed by State law where not in conflict with Federal law. The Bureau of Land Management will not intervene in disputes between rival locaSecrs over possessory rights since Congress has provided for such determinations in local courts.

Dated: November 2, 2001.
Helen Hankins,
Elko Field Office Manager.

[FR Doc. 01-28052 Filed 11-8-01; 8:45 am]

BILLING CODE 4310-HC-P